Proclamation 10093 of October 3, 2020

Made in America Day and Made in America Week, 2020

By the President of the United States of America

A Proclamation

The “Made in America” stamp stands for excellence in craftsmanship. It is a testament to the expertise of our millions of inventors, craftsmen, tradesmen, and laborers who make up the most skilled, innovative, and dedicated workforce in the world. On Made in America Day, and throughout Made in America Week, we commend these hardworking men and women and recommit ourselves to strengthening American manufacturing as we rebuild the greatest economy in our Nation's history for a second time.

For too long, politicians failed to recognize the critical importance of using American labor to make American goods, so that the profits and jobs stay here at home. They enabled American companies to ship their jobs overseas and sat by while foreign companies ripped off our products. They fostered in our country a dangerous reliance on foreign countries while neglecting American workers and American families. These days are over. Under my Administration, these forgotten men and women are forgotten no longer. I pledged to always put American workers first, and as President, I have delivered on that promise, vigorously implementing trade and manufacturing policies that encourage the building, creating, and growing of more products right here at home. As a result, we are creating jobs, improving lives, and strengthening our families, our neighbors, and our Nation.

This year, the coronavirus pandemic has exposed the profound failures of past trade and manufacturing policies. It has never been clearer that foreign dependence is not only the antithesis of the American spirit, but it also endangers our national security in times of crisis. To ensure domestic resilience moving forward, my Administration has renegotiated international trade agreements and enacted manufacturing policies that encourage buying American and hiring American like never before. Earlier this year, the landmark United States-Mexico-Canada Agreement took effect—reopening factories, bringing home hundreds of thousands of jobs, and reasserting America's manufacturing might. I have also signed Executive Orders that strengthen production standards under the Buy American Act and ensure the Federal Government maximizes its use of American-made products.

As our Nation continues to reopen our economy, I call on businesses to sign our Pledge to America's Workers. The programs involved will be essential to getting Americans back to work by educating, training, and reskilling workers of all ages. More businesses taking the Pledge will further our economic comeback and ensure we regain the strides we had made under my Administration.

“Made in America” is not a slogan. It is a solemn pledge. It is the foundation of our renewed success. On every front, my Administration will continue to fight for American workers, American jobs, and American businesses to ensure prosperity today and for America's future generations.

NOW, THEREFORE, I, DONALD J. TRUMP, President of the United States of America, by virtue of the authority vested in me by the Constitution and the laws of the United States, do hereby proclaim October 5, 2020, as Made in America Day and this week, October 4 through October 10, 2020, as Made in America Week. I call upon all Americans to pay special tribute to builders, ranchers, crafters, entrepreneurs, and all those who work with their hands every day to make America great.

IN WITNESS WHEREOF, I have hereunto set my hand this third day of October, in the year of our Lord two thousand twenty, and of the Independence of the United States of America the two hundred and forty-fifth.

[FR Doc. 2020-22506

Filed 10-7-20; 11:15 am]

Billing code 3295-F1-P